DEPARTMENT OF HOUSING AND URBAN DEVELOPMENT

[Docket No. FR-4950-FA-21]

Announcement of Funding Awards for the Service Coordinators in Multifamily Housing, Fiscal Year 2005

AGENCY: Office of the Assistant Secretary for Housing—Federal Housing Commissioner, HUD.

ACTION: Notice of funding awards.

SUMMARY: In accordance with section 102(a)(4)(C) of the Department of Housing and Urban Development Reform Act of 1989, this announcement notifies the public of funding decisions made by the Department in a competition for funding under the Super Notice of Funding Availability (SuperNOFA) for the Service Coordinators in Multifamily Housing program. This announcement contains the names of the awardees and the amounts of the awards made available by HUD.

FOR FURTHER INFORMATION CONTACT: Mr. Willie Spearmon, Director, Office of Housing Assistance and Grant Administration, 451 7th Street, SW., Washington, DC 20410-8000; telephone (202) 708-3000 (this is not a toll-free number). Hearing- and speech-impaired persons may access this number via TTY by calling the Federal Relay Service toll-free at (800) 877-8339. For general information on this and other HUD programs, visit the HUD Web site at http://www.hud.gov.

SUPPLEMENTARY INFORMATION: The Service Coordinators in Multifamily Housing program is authorized by Section 808 of the Cranston-Gonzalez National Affordable Housing Act (Pub. L. 101-625, approved November 28, 1990), as amended by sections 671, 674, 676, and 677 of the Housing and Community Development Act of 1992 (Pub. L. 102-550, approved October 28, 1992), and section 851 of the American Homeownership and Economic Opportunity Act of 2000 (Pub. L. 106-569, approved December 27, 2000). The competition was announced in the SuperNOFA published in the Federal Register on March 21, 2005 (70 FR 14167). Applications were reviewed and selected for funding on the basis of selection criteria contained in that notice.

The Catalog of Federal Domestic Assistance number for this program is 14.191.

The Service Coordinators in Multifamily Housing program allows multifamily housing owners to assist elderly individuals and nonelderly people with disabilities living in HUD assisted housing and in the surrounding area to obtain needed supportive services from the community, to enable them to continue living as independently as possible in their homes.

A total of $15,433,482 was awarded to 92 owners, serving 96 projects with 13,557 units nationwide. In accordance with section 102(a)(4)(C) of the Department of Housing and Urban Development Reform Act of 1989 (103 Stat. 1987, 42 U.S.C. 3545), the Department is publishing the grantees and amounts of the awards in Appendix A of this document.

Dated: November 6, 2006.
Frank L. Davis,
General Deputy, Assistant Secretary for Housing.

Appendix A—Funding Awards for FY2005 Service Coordinators
Recipient | Address | City | State | Zip | Project name | Amount (dollars)
The Wishcamper GroupLLC | 707 Sable Oaks Drive | South Portland | ME | 04106 | Kensington Heights | 312,930.00
Alpha Terrace Redevelopment Corporation | 6105 Etzel Ave | St. Louis | MO | 63133 | Alpha Terrace Apartments | 152,914.00
Alpha-Massillon Housing Corp | 695 Dunbar Dr | Akron | OH | 44311 | Alpha Massillon | 46,943.00
Bankhead Ii, Limited Partnership | 900 S Gay St Ste 1600 | Knoxville | TN | 37902 | BANKHEAD TOWERS | 342,620.00
Baptist Service Corp | Caring Housing Ministries | Alhambra | CA | 91803 | Vista Tower | 311,983.00
Baskervill Outreach, Inc | 257 Baskervill Ave | Pawleys Island | SC | 29585 | St. Elizabeth Place | 81,238.00
Burritt House, LLC | 7 Thomas Drive | Cumberland Foreside | ME | 04110 | Burritt House | 83,700.00
Capitol Towers Inc | 470 Broad St | Hartford | CT | 06106 | Capitol Towers | 44,979.00
Carpenter Preservation Lmtd Div Housing Assn LP | 707 Sable Oaks Dr | South Portland | ME | 04106 | Carpenter Place Apts | 316,938.00
Casa De Los Amigos | 123 S Catalina Ave | Redondo Beach | CA | 90277 | Casa De Los Amigos | 234,865.00
Dandridge Towers, Ltd | 900 S Gay St | Knoxville | TN | 37902 | Dandridge Towers | 173,744.00
Deaconess Senior Citizen Housing Corp | 16300 Dix-Toledo Hwy | Southgate | MI | 48195 | Deaconess Tower | 208,156.00
Dempsey Macon Associates Ltd | 24 Farnsworth St | Boston | MA | 02210 | Dempsey Apartments | 129,168.00
Duluth Leased Housing Associates I, LP | c/o Dominium Management | Minneapolis | MN | 55447 | Pennel Park Commons | 82,671.00
Episcopal House of Reading | 50 N 9th St | Reading | PA | 19601 | Episcopal House of Reading | 133,839.00
Evangelical Lutheran Good Samaritan Society | 4800 West 57th St | Sioux Falls | SD | 57108 | Samaritan Village I | 140,887.92
Fifth Street High Rise, Inc | 850 W Muhammad Ali Blvd | Louisville | KY | 40203 | J O Blanton House | 146,634.00
Franklin Elderly Housing Associates | 7 Thomas Drive | Cumberland Foreside | ME | 04110 | Franklin Arbors | 63,822.00
Franklin Square School Associates Limited Partners | P.O. Box 1089 | Greenville | SC | 29601 | Franklin Square School 100 | 112,752.44
Grace Episcopal Church Jamaica Snr Ctz Hdfc | c/o Wynolia W. Pulliam | Hollis | NY | 11423 | Grace Houses | 106,725.00
Grand Forks Homes, Inc | c/o Grand Forks Housing Authority | Grand Forks | ND | 58203 | Oak Manor | 80,396.00
Grand View Tower LLC | 7730 Forsyth Blvd | Saint Louis | MO | 63105 | Grandview Tower Apartments | 143,833.00
Heritage Square, Ltd | 55 Beattie Place, 3rd Floor | Greenville | SC | 29602 | Heritage Square | 104,557.61
Jeffrey Place, Limited | 1430 Collins Rd NW | Lancaster | OH | 43130 | Jeffrey Place | 110,466.00
Jewish Community Housing For The Elderly Ii, Inc | 30 Wallingford Rd | Brighton | MA | 02135 | Leventhal House | 229,394.42
John Sale Manor, Limited Partnership | 1170 Terminal Tower | Cleveland | OH | 44113 | John Sale Manor | 176,068.00
Judson Terrace Homes | 3000 Augusta St | San Luis Obispo | CA | 93401 | Judson Terrace Homes | 54,794.00
Kc Shalom Housing Limited | 443 Congress Street | Portland | ME | 04101 | Plaza Apartments I | 156,629.00
Kenwin Venture | 350 W. Hubbard | Chicago | IL | 60610 | Pines Of Edgewater | 185,405.00
Knudson Housing Partners, Xxiii Ltd | 29 S Main St | Council Bluffs | LA | 51503 | St. Regis Apartments | 91,823.00
Kv LP (King Village) | 7 Thomas Drive | Cumberland Foreside | ME | 04110 | King Village | 86,592.00
Liberty Terrace Associates, L.P | One Harry Street | Cranston | RI | 02907 | Liberty Terrace | 152,221.00
Locust House Associates | 55 Beattie Place | Greenville | SC | 29601 | Locust House | 191,928.46
Luther Manor of Scott County | 3118 Devils Glen Road | Bettendorf | LA | 52722 | Luther Manor | 106,313.00
Luther Towers, Inc | 3118 Devils Glen Rd | Bettendorf | LA | 52722 | Luther Towers | 106,263.00
Lvsl Limited Partnership | 415 Congress St Ste 204 | Portland | ME | 04101 | Lake Village Apartments | 60,707.28
Marian Housing Center Inc | 26w171 Roosevelt Road | Wheaton | IL | 60189 | Marian Housing Center | 141,329.69
Moss Gardens, Ltd | PO Box 1089 | Greenville | SC | 29602 | Moss Gardens | 161,147.80
Musselshell County Housing Authority | 902 3rd Street East | Roundup | MT | 59072 | Homes On The Range | 69,806.13
Nat'l Church Residences of Lopatcong, NJ | 211 Red School Ln | Phillipsburg | NJ | 08865 | Clymer Village | 114,207.00
Nef Properties Inc | 1420 Kennsington Road | Oakbrook | IL | 60523 | Village Meadow Apartments | 103,695.72
New Haven Jewish Federation Housing Corp | 18 Tower Ln | New Haven | CT | 06519 | Tower East | 226,735.00
New Havenjewish Comm. Council Hsn. Corp | 18 Tower Ln | New Haven | CT | 06519 | Tower One | 226,735.00
Ocala Place, Ltd | Aimco Compliance | Greenville | SC | 29601 | Waters Towers Apts | 460,263.00
Oceanport Associates | 377 Oak Street | Garden City | NY | 11530 | Oceanport Senior Citizens Housing | 165,129.00
Oxford-Kirkwood Associates | 55 Beattie Place, Floor 3 | Greenville | SC | 29601 | Kirkwood House | 202,079.22
Patten Towers, L.P. Ii | 3756 Broadway St | Kansas City | MO | 64111 | Patten Towers | 78,611.00
Paul G. Stewart Apts, Assoc. Phase Ii | 400 E 41st St | Chicago | IL | 60653 | Paul G. Stewart Center | 218,705.00
Paul G. Stewart Apts. Assoc. Phase I | 400 E 41st St | Chicago | IL | 60653 | Paul G. Stewart Center | 218,705.00
Paul G. Stewart Apts. Assoc. Phase Iii | 400 E 41st St | Chicago | IL | 60653 | Paul G. Stewart Apts Iii | 218,705.00
Pavilion Preservation, L.P | 55 Beattie Place 3rd Floor | Greenville | SC | 29601 | The Pavilion | 194,610.00
Pheasant Acres Apartments, Inc | 3100 W 4th St | Sioux City | LA | 51103 | Pheasant Acres Apartments | 172,597.36
Philipsburg Elderly Housing | 7 Thomas Drive | Cumberland Foreside | ME | 04110 | Phillipsburg Tower | 118,529.00
Phoenix Place Ldha LP | 351 Wide Track East | Pontiac | MI | 48342 | Phoenix Place | 217,103.00
Phyllis Wheatley Homes, Inc | 521 Vanderhorst Dr | Nashville | TN | 37207 | Phyllis Wheatley Apts | 158,953.00
Pine Bluff Village Associates | 55 Beattie Place | Greenville | SC | 29602 | Pine Bluff Village | 196,784.96
Pineview Preservation Limited | 707 Sable Oaks Drive | South Portland | ME | 04106 | Pineview Apartments | 311,188.00
Presbyterian Ret. Fac. Corp. Dba Rocky Mountain Manor | 140 N Cheyenne St | Powell | WY | 82435 | Rocky Mountain Manor | 125,938.00
Prospect Towers of Clearwater Inc | 801 Chestnut Street | Clearwater | FL | 33756 | Prospect Towers | 162,797.93
Redland Senior Housing, Inc | c/o Abhow, 6120 Stoneridge Mall Rd | Pleasanton | CA | 94588 | Casa De La Vista | 96,072.00
Riverview Apts, Inc | 52 Garetta St | Pittsburgh | PA | 15217 | Riverview Phase Ii | 140,563.00
Riverview Towers Apartments, Inc | 5025 Swetland Ct | Richmond Heights | OH | 44143 | St. James Gardens | 185,170.00
Rocktree Apartments Associates, LP | 1420 Kensington Road | Oakbrook | IL | 60523 | Rocktree Apartments | 102,365.27
Rolhff's Memorial Manor, Inc., A Ca Corp | 2400 Fair Dr | Napa | CA | 94558 | Rohlff's Memorial Manor | 260,214.00
Rural Housing Action Corp | 400 East Avenue | Rochester | NY | 14607 | Crossroads Apartments | 281,891.00
South Mall Towers Albany, LP | 41 Yorkshire Ln | Delmar | NY | 12054 | Somaltow Housing Co., Inc | 139,287.00
St. George Tower Ltd | 42250 Hayes | Clinton Twp | MI | 48038 | St. George Tower | 208,106.00
St. John Baptist Church Hsng & Dev Corp | 526 Hartridge St | Savannah | GA | 31401 | St. John's Villa Apartments | 111,009.45
St. Simeon Second Mile Corporation | 24 Beechwood Ave | Poughkeepsie | NY | 12601 | St. Simeon Apartments | 74,745.00
Starrett City Associates | 1279 Delmar Loop | Brooklyn | NY | 11239 | Starrett City | 177,409.00
Stillwater Housing Associates | 2355 Polaris Lane North | Plymouth | MN | 55447 | Rivertown Commons | 85,193.00
Stovall Development Corporation c/o Hdsi | 3460 S Broadway | Los Angeles | CA | 90007 | Fairmount Terrace I | 452,754.00
Swartzberg House LLC | 3101 W Touhy Ave | Chicago | IL | 60645 | Swartzberg House | 182,994.00
Sy Landmark Towers Investors, LP | 3770 Broadway St | Kansas City | MO | 64111 | Landmark Towers | 156,666.00
Sy Old Oak Tree Investors LP | 3770 Broadway St | Kansas City | MO | 64111 | Olde Oak Tree Apartments | 156,846.00
Telacu Housing | 5400 E Olympic Blvd | Los Angeles | CA | 90022 | Telacu Terrace | 91,178.00
Telacu Manor, Inc | 5400 E Olympic Blvd | Los Angeles | CA | 90022 | Telacu Manor | 91,178.00
Telecu Senior Court, Inc | 5400 E Olympic Blvd | Los Angeles | CA | 90022 | Telacu Senior Court | 91,178.00
Trevecca Towers, Inc | 60 Lester Ave | Nashville | TN | 37210 | Trevecca Towers I | 654,876.00
Ukrainian Village Inc | 26377 Ryan Road | Warren | MI | 48091 | Ukrainian Village | 208,106.00
United Church Residences of Canal Winchester, Inc | 170 E Center St | Marion | OH | 43302 | Canal Village | 109,287.00
United Church Residences of Kenton, Ohio, Inc | 170 E Center St | Marion | OH | 43302 | Hardincrest | 82,061.00
United Church Residences of Marion, Ohio, Inc | 170 E Center St | Marion | OH | 43302 | Brownstone Terrace | 106,954.00
United Methodist Homes of CT., Inc | 580 Long Hill Ave | Shelton | CT | 06484 | Wesley Heights | 244,208.00
Village Oaks-Oxford Associates | 55 Beattie Place, 3rd Floor | Greenville | SC | 29602 | Village Oaks | 197,906.46
Wade D. Mertz Elderly Housing | 7 Thomas Drive | Cumberland Foreside | ME | 04110 | Wade D. Mertz Towers | 72,547.00
Welles Country Village, Ltd | 2664-2 State Street | Hamden | CT | 06517 | Welles Country Village | 262,660.00
Wesley Woods Center of Emory University, Inc | 1817 Clifton Rd, NE | Atlanta | GA | 30329 | St. John's Towers | 145,132.00
West Side Federation For Senior Housing | 2345 Broadway | New York | NY | 10024 | Marseilles Apartments | 194,531.00
Winter Garden Preservation, L.P | 55 Beattie Place | Greenville | SC | 29602 | Winter Garden | 172,676.04
Wisconsin Housing Preservation Corporation | 111 E. Wisconsin Ave | Milwaukee | WI | 53201 | Riverview Heights | 184,005.00

[FR Doc. E6-19057 Filed 11-9-06; 8:45 am]

BILLING CODE 4210-67-P